DEPARTMENT OF HOUSING AND URBAN DEVELOPMENT

[Docket No. FR-7070-N-73]

30-Day Notice of Proposed Information Collection: The Community Choice Demonstration; OMB Control No.: 2528-0337

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: November 16, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; phone number 202-402-5535 or email: PaperworkReductionActOffice@hud.gov. This is not a toll-free number, HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on June 22, 2023 at 88 FR 40841.

A. Overview of Information Collection

Title of Information Collection: The Community Choice Demonstration.

OMB Approval Number: 2528-0337.

Type of Request: Revision of a currently approved collection.

Form Number: N/A.

Description of the need for the information and proposed use: The U.S. Department of Housing and Urban Development (HUD) has contracted with Abt Associates to conduct an evaluation of its Community Choice Demonstration (formerly Housing Choice Voucher Mobility Demonstration). This proposed information collection involves three instruments that will be administered to subsets of households participating in the Demonstration: a Home Assessment, a Child Assessment, and an Obesity and Type II Diabetes Risk Assessment.¹ The Home Assessment will assess how moving to an opportunity area affects exposure to pest allergens and indoor pollutants that may impact health conditions among low-income children. The Child Assessment will assess how moving to an opportunity area may affect children's conduct problems and physical and mental health. The Obesity and Type II Diabetes Risk Assessment will assess how moving to an opportunity area affects the risk of obesity and type II diabetes (primarily for the head of household and secondarily for one child in each household).

¹ As discussed below, the Obesity and Type II Diabetes Risk Assessment is also known as the Mobility Opportunity Vouchers for Eliminating Disparities (MOVED) study.

The Home and Child Assessments are funded by HUD and being conducted by Abt Associates. HUD's contract with Abt Associates provides flexibility to explore collaborations with other researchers and funders to support additional knowledge-building efforts that build on the foundation laid by the Demonstration so long as they advance important research objectives, do not interfere with the core Demonstration, and are structured in a way that minimizes overall respondent burden. The Obesity and Type II Diabetes Risk Assessment represents one such collaboration; it is funded by the National Institute of Diabetes and Digestive and Kidney Diseases (NIDDK) ² and led by Johns Hopkins University (JHU) as part of a study called the Mobility Opportunity Vouchers for Eliminating Disparities (MOVED) study. The data collection for the MOVED study will also be conducted by Abt. While NIH-funded studies do not normally require the submission of an information collection request for compliance with the Paperwork Reduction Act, we are including the Obesity and Type II Diabetes Risk Assessment as part of this information collection request because it will be administered to a subset of households participating in the HUD-funded Demonstration. In addition, the Child Assessment will be administered during the same visit, to the same households, and by the same interviewers as the Obesity and Type II Diabetes Risk Assessment.

² The NIDDK grant number is R01DK136610.

Background on Housing Choice Voucher Mobility Demonstration

The Consolidated Appropriations Act, 2019 (Pub. L. 116-6) and the Further Consolidated Appropriations Act, 2020 (Pub. L. 116-94) authorized the U.S. Department of Housing and Urban Development (HUD) to implement and evaluate the Housing Choice Voucher (HCV) Mobility Demonstration (now referred to as the Community Choice Demonstration or CCD or “Demonstration”). The primary purpose of the Demonstration is to provide voucher assistance and mobility-related services to families with children to encourage families to move to lower-poverty areas and expand their access to opportunity areas. The Demonstration will be evaluated using a mix of methods, including a random assignment impact study, a process study, and a cost analysis. The Demonstration has two phases: In Phase 1, currently underway, enrolled families are being assigned to two groups: one group that is offered Comprehensive Mobility Related Services (CMRS), and a control group that is offered usual PHA services. In Phase 2, scheduled to begin in the fall of 2024, a second treatment group will be added that runs concurrently with the CMRS and control groups, in which families will be offered selected mobility-related services (SMRS). (In Phase 2, families will be randomly assigned to one of three groups: CMRS, SMRS, or the control group.) Phase 1 of the study is evaluating whether the offer of CMRS helps families with children access and remain in opportunity areas and exploring which services appear to be most effective and cost-effective. Phase 2 will evaluate the effectiveness of SMRS and compare the outcomes of CMRS and SMRS. For more information on the underlying housing mobility demonstration program, see HUD's website at https://www.hud.gov/program_offices/public_indian_housing/programs/hcv/communitychoicedemo and https://www.hudexchange.info/programs/public-housing/housing-mobility-toolkit/.

On May 31, 2022 and June 9, 2022, OMB approved the administration of a series of data collection instruments as part of the Demonstration; OMB approved non-substantive changes to this information collection in October 2022. The OMB Control # is 2528-0337 and expires June 30, 2025. OMB approved non-substantive changes to this information collection in October 2022.

Revised Information Collection Request

Through this revised information collection request, we are seeking approval for three new assessments: a Home Assessment, a Child Assessment, and an Obesity and Type II Diabetes Risk Assessment. The collection of information through these three assessments, and through the underlying Demonstration, will be closely coordinated to minimize burden on families and ensure there is no duplication in data collection across each of the assessments and between the assessments and the Demonstration.

We seek approval for two rounds of data collection (baseline and follow-up assessments) for each of these three assessments, which are described in more detail below.

Home Assessment

The Home Assessment will be administered at two of the eight Demonstration sites and include the heads of household of an estimated 570 households. Households selected to participate in the Home Assessment will be contacted shortly after random assignment in the Demonstration for a baseline Home Assessment that will include three components: direct measurements of pest allergens and indoor air quality, a brief survey, and observations noted by the interviewer. The same data collection will be repeated approximately 12 months later.

The direct assessment will measure (1) temperature and relative humidity, (2) carbon dioxide, (3) carbon monoxide, (4) mouse and cockroach allergens, (5) particulate matter, and (6) volatile organic compounds (chemicals that enter the air from paints, cleaners, etc.). The brief survey will obtain information from the parent or guardian on risk factors for asthma and other respiratory conditions and child health conditions, such as exposure to cigarette smoke through smokers in the household or building. The interviewer observations will focus on risk factors for asthma and respiratory conditions and housing and neighborhood quality.

Child Assessment

The Child Assessment will be conducted at three Demonstration sites that are different from those of the Home Assessment to minimize the reporting burden on participating families. The Child Assessment will be administered to one child and to the parent or guardian of that child in each of an estimated 837 households who have a child between ages 2 and 15. The study team will conduct in-person visits over a 3.5-year data collection period, at two points in time: at baseline and at a 2-year follow up. The Child Assessment will involve a survey about a prespecified focal child and a direct assessment of that child's executive functioning. Most of the questions on the survey will be asked of the parent or guardian, with some questions being asked directly of children.

Obesity and Type II Diabetes Risk Assessment

The Obesity and Type II Diabetes Risk Assessment will be administered to the same households that are participating in the Child Assessment during the same visit. The Obesity and Type II Diabetes Risk Assessment will also be administered to some households that do not have a child in the age range specified for the Child Assessment and to some families that decline to participate in the Child Assessment. As with the Child Assessment, the data collection will focus on one child in each household along with the parent or guardian of that child. The Obesity and Type II Diabetes Risk Assessment, which is expected to be administered to a total of 900 households, includes:

• an adult survey

• anthropometric assessments (height, weight, and waist circumference) of the adult and one focal child

• blood spot samples to test HbA1c levels (a measure of diabetes risk) of the adult

• blood pressure readings

• observations noted by the interviewer, and

• accelerometer data on a sub-set of 400 adults and 400 children.

At the 2-year follow-up visit, the study team will conduct a follow-up Obesity and Type II Diabetes Risk Assessment that will include the same components with all households that can be located and agree to participate. In addition, semi-structured interviews will be conducted with a subset of 75 households. The interviews will dive deeper into the factors explored in the survey that are potentially associated with obesity and Type II diabetes risk in order to better understand the mechanisms which impact health and well-being.

Hourly Cost per Response: The estimated total annual burden of this information collection is 279,892.89 hours. The estimated total annual cost for this information collection is $1,588,630.99. The estimated total annual cost is calculated by multiplying the total number of respondent hours for adults by $11.05. The hourly rate of $11.05 was calculated using the average hourly minimum wage rate for households in the Housing Choice voucher program living in the 8 study sites.³ Annualized cost estimates were not calculated for the child sample. The child sample eligible to participate in the study will be under the age of 18. Most, if not all, will be enrolled in school and working part-time at the most. Thus, we did not calculate an hourly wage for the child sample.

³ Hourly minimum wage rates were averaged across the eight study sites, which include Los Angeles, Louisiana, Minnesota, New York City, New York State, Ohio, Pennsylvania, and Tennessee.

Respondents: Selected adults and children who have enrolled in the Demonstration and are either (1) offered comprehensive mobility-related services along with their voucher or (2) offered standard PHA services along with their voucher.

Estimated Number of Respondents: The baseline and follow-up assessments for the Home, Child, and the Obesity and Type II Diabetes Risk Assessments will be completed for an estimated 2,370 respondents. This consists of 570 heads of household participating in the Home Assessment and 900 parents or guardians and 900 children participating in the Obesity and Type II Diabetes Risk Assessment. We estimate that the Child Assessment will be administered to 837 households that also participate in the Obesity and Type II Diabetes Risk Assessment, so they are already included in the estimated number of respondents above.

Frequency of Response: Twice (baseline and follow-up).

Average Hours per Response:

• The Home Assessment includes an advance letter (5 minutes or .08 hours), an email (1 minute or .02 hours), and a follow-up call from the research team (8 minutes or .13 hours). It also includes the consent (10 minutes or .17 hours), direct measurement (30 minutes or .5 hours), interviewer observations (10 minutes or .17 hours) and a brief survey (15 minutes or .25 hours) representing a total respondent burden of 1.32 hours. The burden table reflects the evaluation contractor's estimate that it may need to conduct initial outreach, via emails, letters, and phone calls, to up to 814 families in order to recruit 570 families to participate in the Home Assessment.

• The Child Assessment includes the consent (8 minutes or .13 hours), survey about child (asked of parent/guardian) and parent/guardian's presence during direct child assessment (a total of 45 minutes or .75 hours), and the direct child assessment (22 minutes or .37 hours for the child). This represents a total respondent burden of 75 minutes or 1.25 hours. Consent for the Child Assessment and the Obesity and Type II Diabetes Risk Assessment will be obtained at the same time, through the same instrument; we have apportioned the total time estimate for the combined instrument across the two assessments.

The Obesity and Type II Diabetes Risk Assessment includes an advance letter (5 minutes or .08 hours), an email (1 minute or .02 hours), and a follow-up call from the research team (8 minutes or .13 hours). It also includes the consent and enrollment (15 minutes or .25 hours); adult survey (60 minutes or 1 hour); anthropometric assessments for adults (10 minutes or 0.17 hours) and children (10 minutes or 0.17 hours and 10 minutes or .17 hours for the parent or guardian who must also be present); and blood spot sample of the adult (10 minutes or 0.17 hours). The Home observations/housing assessment of the home will take 15 minutes (.25 hours). For the subset of 400 adults and 400 children selected to wear an accelerometer, we estimate a total of 1 hour to put on and return the accelerometer. Returning the accelerometer will involve the participant placing the device in the self-addressed, postpaid return envelope that the interviewer provided and mailing it back to the study team. We have also included the full burden of participants wearing the accelerometer for 7 days for a total burden of 169 hours per participant in the accelerometer sub-group. We expect the blood pressure reading to take 15 minutes or .25 hours. For the sub-set of 75 adults that are interviewed as part of the semi-structured interviews, consent is expected to take 10 minutes (or .17 hours) and the interviews are expected to take 60-90 minutes, or 1-1.5 hours. Finally, we have included quarterly tracking emails/texts or calls between the baseline survey and the follow-up survey that remind participants to confirm or update their name, address, phone, and email. The tracking also allows them to provide the name, address and phone number of someone who will always know how to reach them. We estimate the burden to be 8 minutes or .13 hours for tracking emails/texts and 10 minutes or .17 hours for tracking calls. The burden table reflects the evaluation contractor's estimate that it may need to conduct initial outreach, via emails, letters, and phone calls, to up to 1,285 families in order to recruit 900 families to participate in the Obesity and Type II Diabetes Risk Assessment.

Respondents: Public.

Annualized Burden Table
Information collection | Number of respondents | Frequency of response | Responses per annum | Burden hour per response | Annual burden hours | Hourly cost per response | Annual cost
Home Assessment
Advance Letter | 814 | 2 | 1,628 | 0.08 | 130.24 | $11.05 | $1,439.15
Email Reminder | 814 | 2 | 1,628 | 0.02 | 32.56 | 11.05 | 359.79
Follow-up Call Phone Script | 814 | 2 | 1,628 | 0.13 | 211.64 | 11.05 | 2,338.62
Consent for Assessment | 570 | 2 | 1,140 | 0.17 | 193.80 | 11.05 | 2,141.49
Direct Measurements | 570 | 2 | 1,140 | 0.50 | 570.00 | 11.05 | 6,298.50
Interviewer Observations | 570 | 2 | 1,140 | 0.17 | 193.80 | 11.05 | 2,141.49
Survey | 570 | 2 | 1,140 | 0.25 | 285.00 | 11.05 | 3,149.25
Child Assessment
Consent for Assessment | 837 | 2 | 1,674 | 0.13 | 217.62 | 11.05 | 2,404.70
Survey about child (asked of parent/guardian) and parent/guardian's presence during direct Child Assessment | 837 | 2 | 1,674 | 0.75 | 1,255.50 | 11.05 | 13,873.28
Direct Child Assessment | 837 | 2 | 1,674 | 0.37 | 619.38 | N/A |
The Obesity and Type II Diabetes Risk Assessment
Advance Letter | 1,285 | 2 | 2,570 | 0.08 | 205.60 | 11.05 | 2,271.88
Email Reminder | 1,285 | 2 | 2,570 | 0.02 | 51.40 | 11.05 | 567.97
Follow-up Call Phone Script | 1,285 | 2 | 2,570 | 0.13 | 334.10 | 11.05 | 3,691.81
Consent for Assessment | 900 | 2 | 1,800 | 0.25 | 450.00 | 11.05 | 4,972.50
Adult Survey | 900 | 2 | 1,800 | 1.00 | 1,800.00 | 11.05 | 19,890.00
Anthropometric assessments (adult) | 900 | 2 | 1,800 | 0.17 | 306.00 | 11.05 | 3,381.30
Anthropometric assessments (child) | 900 | 2 | 1,800 | 0.17 | 306.00 | N/A |
Anthropometric assessments (child, but accounting for parent's time) | 900 | 2 | 1,800 | 0.17 | 306.00 | 11.05 | 3,381.30
Blood Spot Samples (adult) | 900 | 2 | 1,800 | 0.17 | 306.00 | 11.05 | 3,381.30
Home Observations/Housing Assessment | 900 | 2 | 1,800 | 0.25 | 450.00 | 11.05 | 4,972.50
Accelerometers (adult) | 400 | 2 | 800 | 169.00 | 135,200.00 | 11.05 | 1,493,960.00
Accelerometers (child) | 400 | 2 | 800 | 169.00 | 135,200.00 | N/A |
Blood Pressure Reading (adult) | 900 | 2 | 1,800 | 0.25 | 450.00 | 11.05 | 4,972.50
Consent for Semi-Structured Interviews | 75 | 1 | 75 | 0.17 | 12.75 | 11.05 | 140.89
Semi-Structured Interviews | 75 | 1 | 75 | 1.50 | 112.50 | 11.05 | 1,243.13
Tracking Emails/Texts | 900 | 2 | 1,800 | 0.13 | 234.00 | 11.05 | 2,585.70
Tracking Calls | 900 | 3 | 2,700 | 0.17 | 459.00 | 11.05 | 5,071.95
Totals | 2,936 |  | 42,826 |  | 279,892.89 |  | 1,588,630.99

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Anna P. Guido,
Department Reports Management Office, Office of Policy Development and Research, Chief Data Officer.

[FR Doc. 2023-22847 Filed 10-16-23; 8:45 am]

BILLING CODE 4210-67-P